DEPARTMENT OF TRANSPORTATION

Federal Aviation Administration

14 CFR Part 39

[Docket No. FAA-2009-1221; Directorate Identifier 2008-NM-097-AD; Amendment 39-16881; AD 2011-25-05]

RIN 2120-AA64

Airworthiness Directives; The Boeing Company Airplanes

AGENCY: Federal Aviation Administration (FAA), DOT.

ACTION: Final rule.

SUMMARY: We are adopting a new airworthiness directive (AD) for The Boeing Company Model 767 airplanes. This AD requires installing new panel assemblies in the main equipment center or on the forward cargo compartment sidewall and removing certain relays from some panels in the main equipment center. This AD also requires revising the maintenance program to incorporate Airworthiness Limitations (AWLs) No. 28-AWL-27 and No. 28-AWL-28. This AD also includes an alternative location for the installation of the new panel assemblies for airplanes that have the optional water system drain plumbing and changing the interconnecting wiring between the P141 panel and the P36 and P37 panels. For airplanes with a deactivated center fuel tank, this AD also requires an alternative functional test for the left and right override/jettison pumps. We are issuing this AD to prevent possible sources of ignition in a fuel tank caused by electrical fault or uncommanded dry operation of the main tank boost pumps and center auxiliary tank override and jettison pumps. This AD was prompted by fuel system reviews conducted by the manufacturer. An ignition source in the fuel tank could result in a fire or an explosion and consequent loss of the airplane.

DATES: This AD is effective February 22, 2012.

The Director of the Federal Register approved the incorporation by reference of certain publications listed in the AD as of February 22, 2012.

The Director of the Federal Register previously approved the incorporation by reference of certain other publications listed in this AD as of January 12, 2010 (74 FR 68515, December 28, 2009).

The Director of the Federal Register previously approved the incorporation by reference of certain other publications listed in this AD as of September 9, 2009 (74 FR 38905, August 5, 2009).

For service information identified in this AD contact Boeing Commercial Airplanes, Attention: Data & Services Management, P.O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Elias Natsiopoulos, Aerospace Engineer, Systems and Equipment Branch, ANM-130S, FAA, Seattle Aircraft Certification Office, 1601 Lind Avenue SW., Renton, Washington 98057-3356; phone: (425) 917-6478; fax: (425) 917-6590; email: elias.natsiopoulos@faa.gov.

SUPPLEMENTARY INFORMATION:

Discussion

We issued a supplemental notice of proposed rulemaking (NPRM) to amend 14 CFR part 39 to include an airworthiness directive (AD) that would apply to the specified products. That supplemental NPRM published in the Federal Register on April 5, 2011 (76 FR 18664). That supplemental NPRM proposed to require installing new panel assemblies in the main equipment center or on the forward cargo compartment sidewall and removing certain relays from some panels in the main equipment center. That supplemental NPRM also proposed to require revising the maintenance program to incorporate Airworthiness Limitations (AWLs) No. 28-AWL-27 and No. 28-AWL-28. For certain airplanes that supplemental NPRM proposed to require prior or concurrent installation of a second fuel crossfeed valve. That supplemental NPRM also proposed an alternative location for the installation of the new panel assemblies for airplanes that have the optional water system drain plumbing and changing the interconnecting wiring between the P141 panel and the P36 and P37 panels. For airplanes with a deactivated center fuel tank, that supplemental NPRM proposed to require an alternative functional test for the left and right override/jettison pumps.

Comments

We gave the public the opportunity to participate in developing this AD. The following presents the comments received on the supplemental NPRM (76 FR 18664, April 5, 2011) and the FAA's response to each comment.

Support for Supplemental NPRM (76 FR 18664, April 5, 2011)

Boeing concurs with the content of the supplemental NPRM (76 FR 18664, April 5, 2011). Continental Airlines has no technical objections or comments to the supplemental NPRM.

Requests To Revise or Remove Paragraph (j) of the Supplemental NPRM (76 FR 18664, April 5, 2011)

Several commenters requested to either revise or remove paragraph (j) of the supplemental NPRM (76 FR 18664, April 5, 2011). ABX Air recommended that paragraph (j) of the supplemental NPRM be revised to specify that prior or concurrent accomplishment of Boeing Service Bulletin 767-28-0034, Revision 3, dated March 14, 1996, is only required if Boeing Service Bulletin 767-28A0085, Revision 2, dated August 19, 2010, has been done in accordance with the requirements in paragraph (g) of the supplemental NPRM. ABX added that an operator may choose not to incorporate Boeing Service Bulletin 767-28-0034 as long as an alternative method which complies with the requirements in paragraph (g) is approved in accordance with paragraph (o) of the supplemental NPRM. British Airways (BAB) requested that the requirement in paragraph (j) of the supplemental NPRM be removed for any alternative designs (e.g., TDG Aerospace UFI). Japan Airlines (JAL) noted that the installation of a second crossfeed valve, as required by paragraph (j) of the supplemental NPRM, does not have a direct relationship with the electrical fault or uncommanded dry operation of the main tank boost pumps and center auxiliary tank override and jettison pumps, and is not a possible source of ignition.

We acknowledge the commenters' concerns and have removed paragraph (j) from this AD. The installation of a dual crossfeed valve system is an option that operators may do to improve airplane reliability, or as an alternative method of compliance (AMOC) to the requirements of AD 88-21-03 R1, Amendment 39-6077 (53 FR 46605, November 18, 1988). That action (installation of a dual crossfeed configuration) is not necessary for the installation of the ground fault interrupter (GFI) or to address uncommanded dry operation of the main boost pumps and center auxiliary tank override and jettison pumps. This AD requires installation of GFI for both single and dual crossfeed valve configurations. We agree that a single crossfeed valve configuration is acceptable (not incorporating Boeing Service Bulletin 767-28-0034, Revision 3, dated March 14, 1996), and we are working with Boeing to expedite the revision of Boeing Service Bulletin 767-28A0085 in order to provide procedures for a modification to add GFI protection on airplanes with single crossfeed valve configurations.

In addition, we have clarified the actions by revising paragraph (g) of this AD to specify the actions for airplanes with a dual crossfeed valve configuration and adding paragraph (h) of this AD to specify actions for airplanes with a single crossfeed valve configuration (i.e., a dual crossfeed valve configuration has not been installed in accordance with Boeing Service Bulletin 767-28-0034). For airplanes with a dual crossfeed valve configuration, the installation specified in Boeing Service Bulletin 767-28A0085, Revision 2, dated August 19, 2010, must be done. For airplanes with a single crossfeed valve configuration, there are two options: (1) Doing the installation specified in Boeing Service Bulletin 767-28A0085, Revision 2, dated August 19, 2010, provided that prior to or concurrently with the installation of the ground fault interrupt relays, a dual crossfeed valve is installed in accordance with Boeing Service Bulletin 767-28-0034, Revision 3, dated March 14, 1996, or (2) maintaining the single crossfeed valve configuration and modifying the airplane to install a GFI using a method approved by the FAA. We have revised the subsequent paragraph identifiers accordingly.

Requests To Postpone AD Issuance

All Nippon Airways (ANA), ABX, BAB, and JAL requested that issuance of the AD be postponed until Boeing Service Bulletin 767-28A0085, Revision 2, dated August 19, 2010, has been revised. ABX noted that Boeing Service Bulletin 767-28A0085, Revision 2, dated August 19, 2010, contains instructions to modify airplanes with two fuel crossfeed valves, but no instructions to modify airplanes with one crossfeed valve. The commenters stated that Boeing is in the process of revising this service bulletin to change the concurrent requirement and provide wiring changes and an alternative installation for airplanes having a single crossfeed valve system.

We do not agree to delay issuance of this AD until Boeing Service Bulletin 767-28A0085, Revision 2, dated August 19, 2010, is revised, due to the severity of the unsafe condition addressed by this AD. As noted previously, paragraph (h) of this AD has been added to provide two options for airplanes that currently have a single crossfeed valve configuration. Also noted previously, Boeing is currently revising Service Bulletin 767-28A0085, and it will be issued after it is completed. Therefore, as specified previously, we have changed paragraph (g) of this AD and added paragraph (h) of this AD.

Requests To Allow AMOCs to AD 2009-16-06, Amendment 39-15989 (74 FR 38905, August 5, 2009), To Terminate Paragraph (i) of the Supplemental NPRM (76 FR 18664, April 5, 2011)

Two commenters requested that we allow AMOCs for AD 2009-16-06, Amendment 39-15989 (74 FR 38905, August 5, 2009), to terminate the requirements of paragraph (i) of the supplemental NPRM (76 FR 18664, April 5, 2011). United Airlines (UA) requested that the supplemental NPRM include a new paragraph to allow an AMOC to AD 2009-16-06, to terminate prior or concurrent installation of an automatic shutoff system for the auxiliary fuel tank pump as required by paragraph (i) of the supplemental NPRM. UA stated that accomplishing the requirements in AD 2009-16-06 terminates the requirements in paragraph (i) of the supplemental NPRM, and noted that during compliance with that AD it obtained FAA AMOC Letter 140S-09-331, dated September 25, 2009, to install an automatic system for the auxiliary fuel tank pump in accordance with Boeing Service Bulletin 767-28A0083, Revision 1, dated April 26, 2007. That AMOC was only applicable to three of UA's 35 Model 767-300 airplanes because Boeing Service Bulletin 767-28A0083, Revision 1, dated April 26, 2007, was accomplished on the remaining 32 airplanes before the effective date of AD 2009-16-06. UPS stated that it obtained FAA-AMOC 140S-10-218, dated June 22, 2010, which approved the use of alternate terminal blocks because those identified in Boeing Service Bulletin 767-28A0083, Revision 2, dated February 12, 2009, had been superseded. UPS requested that paragraph (i) of the supplemental NPRM be updated to include that any approved AMOCs terminate the requirements of paragraph (i) of the supplemental NPRM.

We acknowledge the commenters' concerns and provide the following. The related FAA-approved AMOCs should be accepted for terminating the requirements of paragraph (j) of this AD (referred to as paragraph (i) in the supplemental NPRM (76 FR 18664, April 5, 2011)), because the intent of those requirements is met by those AMOCs. It is not necessary to add a new paragraph or revise paragraph (j) of this AD, because accomplishing the AMOCs to AD 2009-16-06, Amendment 39-15989 (74 FR 38905, August 5, 2009), meets the requirements of AD 2009-16-06, and therefore terminates the requirements of paragraph (j) of this AD. Paragraph (j) of this AD already states that “Accomplishing the requirements of AD 2009-16-06, terminates the requirements of this paragraph.” We have made no change to the AD in this regard.

Requests To Revise Paragraph (k) of the Supplemental NPRM (76 FR 18664, April 5, 2011)

UA asked that paragraph (k) of the supplemental NPRM (76 FR 18664, April 5, 2011) be revised to add a reference to Revision May 2010 of Section 9 of the Boeing 767 Maintenance Planning Data (MPD) Document, D622T001-9. UA stated that paragraph (k) requires concurrent revision of the maintenance program by incorporating Airworthiness Limitations (AWLs) No. 28-AWL-27 and No. 28-AWL-28 of Section 9 of the Boeing 767 MPD Document, D622T001-9, Revision April 2008; Revision March 2009; or Revision May 2009. UA added that subsequent to Revision May 2009, Boeing has issued Revision May 2010. UPS also requested that paragraph (k) of the supplemental NPRM be revised to add Revision 22, dated April 2011, of Section 9 of the Boeing 767 MPD, Document D622T001-9.

We agree that Boeing 767 MPD Document, D622T001-9, Revision May 2010 should be added to paragraph (k) of this AD. However, we do not agree to add Revision 22, dated April 2011. That revision does not affect Section 9 of MPD Document D622T001-9, as referred to in paragraph (k) of this AD. We have revised paragraph (k) of this AD accordingly.

Conclusion

We reviewed the relevant data, considered the comments received, and determined that air safety and the public interest require adopting the AD with the changes described previously. We also determined that these changes will not increase the economic burden on any operator or increase the scope of the AD.

Costs of Compliance

We estimate that this AD will affect 416 airplanes of U.S. registry.

We estimate the following costs to comply with this AD:

Estimated Costs
Action | Labor cost | Parts cost | Cost per product | Cost on U.S. operators
Installation of GFI equipment and wiring | Between 216 and 279 work-hours × $85 per hour = between $18,360 and $23,715 | Between $52,285 and $53,123 | Between $70,645 and $76,838 | Up to $31,964,608.
Installation of second crossfeed valve (prior/concurrent action) | Between 274 and 302 work-hours × $85 per hour = between $23,290 and $25,670 | Between $30,838 and $66,903 | Between $54,128 and $92,573 | Between $22,517,248 and $38,510,368.
Installing automatic shutoff system (prior/concurrent action; required by AD 2009-16-06, Amendment 39-15989 (74 FR 38905, August 5, 2009)) | Between 3 and 29 work-hours × $85 per hour = between $255 and $2,465 | Between $421 and $9,374 | Between $676 and $11,839 | Between $281,216 and $4,925,024.
Revising the maintenance program | 1 | None | $85 | $35,360.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-25-05 The Boeing Company: Amendment 39-16881; Docket No. FAA-2009-1221; Directorate Identifier 2008-NM-097-AD.

(a) Effective Date

This airworthiness directive (AD) is effective February 22, 2012.

(b) Affected ADs

None.

(c) Applicability

This AD applies to The Boeing Company Model 767-200, -300, -300F, and -400ER series airplanes, certificated in any category; as identified in Boeing Service Bulletin 767-28A0085, Revision 2, dated August 19, 2010.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (o) of this AD. The request should include a description of changes to the required inspections that will ensure the continued operational safety of the airplane.

(d) Subject

Joint Aircraft System Component (JASC)/Air Transport Association (ATA) of America Code 28, Fuel.

(e) Unsafe Condition

This AD results from fuel system reviews conducted by the manufacturer. We are issuing this AD to prevent possible sources of ignition in a fuel tank caused by electrical fault or uncommanded dry operation of the main tank boost pumps and center auxiliary tank override and jettison pumps. An ignition source in the fuel tank could result in a fire or an explosion and consequent loss of the airplane.

(f) Compliance

Comply with this AD within the compliance times specified, unless already done.

(g) Installation for Airplanes on Which a Dual Crossfeed Valve Has Been Installed

For airplanes on which a dual crossfeed valve has been installed as specified in Boeing Service Bulletin 767-28-0034 as of the effective date of this AD: Within 60 months after the effective date of this AD, install ground fault interrupt relays (P140 and P141 panel assemblies) and all applicable parts and components in the main equipment center or in the forward cargo compartment sidewall, as applicable, and remove the fuel boost pump control relays from the P33, P36, and P37 panels, in accordance with the Accomplishment Instructions of Boeing Service Bulletin 767-28A0085, Revision 2, dated August 19, 2010, except as required by paragraph (i) of this AD.

(h) Installation for Airplanes on Which a Dual Crossfeed Valve Has Not Been Installed

For airplanes on which a dual crossfeed valve has not been installed as specified in Boeing Service Bulletin 767-28-0034 as of the effective date of this AD: Within 60 months after the effective date of this AD, do the actions specified in paragraph (h)(1) or (h)(2) of this AD.

(1) Install ground fault interrupt relays (P140 and P141 panel assemblies) and all applicable parts and components in the main equipment center or in the forward cargo compartment sidewall, as applicable, and remove the fuel boost pump control relays from the P33, P36, and P37 panels, in accordance with the Accomplishment Instructions of Boeing Service Bulletin 767-28A0085, Revision 2, dated August 19, 2010, except as required by paragraph (i) of this AD. Prior to or concurrently with the installation of the ground fault interrupt relays, install a dual crossfeed valve in accordance with Boeing Service Bulletin 767-28-0034, Revision 3, dated March 14, 1996.

(2) Maintain the single crossfeed valve configuration and install a GFI, in accordance with a method approved using the procedures specified in paragraph (o)(1) of this AD.

(i) Exception to Service Bulletin

Although paragraph 3.B.29.e. of the Accomplishment Instructions of Boeing Service Bulletin 767-28A0085, Revision 2, dated August 19, 2010, specifies an alternative functional test of the left and right center override pumps as an option, this AD requires that test for airplanes on which the center tank is deactivated.

(j) Prior/Concurrent Installations

For airplanes identified in paragraph 1.A.1. of Boeing Service Bulletin 767-28A0083, Revision 2, dated February 12, 2009; or Boeing Service Bulletin 767-28A0084, Revision 1, dated April 26, 2007: Prior or concurrently with accomplishing the actions required by paragraph (g) and (h)(1) of this AD, install an automatic shutoff system for the auxiliary fuel tank pump, in accordance with the Accomplishment Instructions of Boeing Service Bulletin 767-28A0083, Revision 2, dated February 12, 2009; or Boeing Service Bulletin 767-28A0084, Revision 1, dated April 26, 2007; as applicable. Accomplishing the requirements of AD 2009-16-06, Amendment 39-15989 (74 FR 38905, August 5, 2009), terminates the requirements of this paragraph.

(k) Maintenance Program Revision

Concurrently with accomplishing the actions required by paragraphs (g) and (h)(1) of this AD, or within 30 days after the effective date of this AD, whichever occurs later: Revise the maintenance program by incorporating Airworthiness Limitations (AWLs) No. 28-AWL-27 and No. 28-AWL-28 of Section 9 (“Airworthiness Limitations (AWLs) and Certification Maintenance Requirements (CMRs)”) of the Boeing 767 Maintenance Planning Data (MPD) Document, D622T001-9, Revision April 2008; Revision March 2009; Revision May 2009; or Revision May 2010. The initial compliance time for the actions specified in AWLs No. 28-AWL-27 and No. 28-AWL-28 is within 1 year after accomplishing the installation required by paragraph (g) or (h)(1) of this AD, or within 1 year after the effective date of this AD, whichever occurs later.

(l) Terminating Action for AWLs Revision

Incorporating AWLs No. 28-AWL-27 and No. 28-AWL-28 into the maintenance program in accordance with paragraph (g)(2) of AD 2008-11-01, Amendment 39-15523 (73 FR 29414, May 21, 2008), or paragraph (g)(2) of AD 2008-11-01 R1, Amendment 39-16145 (74 FR 68515, December 28, 2009), terminates the action required by paragraph (k) of this AD.

(m) No Alternative Inspections or Inspection Intervals

After accomplishing the actions specified in paragraph (k) of this AD, no alternative inspections or inspection intervals may be used unless the inspections or intervals are approved as an alternative method of compliance (AMOC) in accordance with the procedures specified in paragraph (o) of this AD.

(n) Credit for Actions Accomplished in Accordance With Previous Service Information

Actions done before the effective date of this AD in accordance with the service information identified in paragraphs (n)(1) through (n)(5) of this AD are acceptable for compliance with the corresponding requirements of this AD.

(1) Boeing Alert Service Bulletin 767-28A0085, dated January 10, 2008.

(2) Boeing Service Bulletin 767-28A0085, Revision 1, dated June 25, 2009.

(3) Boeing Alert Service Bulletin 767-28A0083, dated May 3, 2006.

(4) Boeing Service Bulletin 767-28A0083, Revision 1, dated April 26, 2007.

(5) Boeing Alert Service Bulletin 767-28A0084, dated May 3, 2006.

(o) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(p) Related Information

For more information about this AD, contact Elias Natsiopoulos, Aerospace Engineer, Systems and Equipment Branch, ANM-130S, FAA, Seattle Aircraft Certification Office, 1601 Lind Avenue SW., Renton, Washington 98057-3356; telephone (425) 917-6478; fax (425) 917-6590; email elias.natsiopoulos@faa.gov.

(q) Material Incorporated by Reference

(1) You must use the following service information to do the actions required by this AD, unless the AD specifies otherwise. The Director of the Federal Register approved the incorporation by reference (IBR) of the following service information under 5 U.S.C. 552(a) and 1 CFR part 51 on the date specified:

(i) Boeing Service Bulletin 767-28-0034, Revision 3, dated March 14, 1996, approved for IBR February 22, 2012.

(ii) Boeing Service Bulletin 767-28A0083, Revision 2, dated February 12, 2009, approved for IBR September 9, 2009 (74 FR 38905, August 5, 2009).

(iii) Boeing Service Bulletin 767-28A0084, Revision 1, dated April 26, 2007, approved for IBR September 9, 2009 (74 FR 38905, August 5, 2009).

(iv) Boeing Service Bulletin 767-28A0085, Revision 2, dated August 19, 2010, approved for IBR February 22, 2012.

(v) Section 9 of Boeing 767 Maintenance Planning Data Document, D622T001-9, Revision April 2008, approved for IBR January 12, 2010 (74 FR 68515, December 28, 2009).

(vi) Section 9 of Boeing 767 Maintenance Planning Data Document, D622T001-9, Revision March 2009, approved for IBR February 22, 2012.

(vii) Section 9 of Boeing 767 Maintenance Planning Data Document, D622T001-9, Revision May 2009, approved for IBR January 12, 2010 (74 FR 68515, December 28, 2009).

(viii) Section 9 of Boeing 767 Maintenance Planning Data Document, D622T001-9, Revision May 2010, approved for IBR February 22, 2012.

(2) For service information identified in this AD, contact Boeing Commercial Airplanes, Attention: Data & Services Management, P.O. Box 3707, MC 2H-65, Seattle, Washington 98124-2207; telephone (206) 544-5000, extension 1; fax (206) 766-5680; email me.boecom@boeing.com; Internet https://www.myboeingfleet.com.

(3) You may review copies of the referenced service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on November 22, 2011.
Ali Bahrami,
Manager, Transport Airplane Directorate, Aircraft Certification Service.

[FR Doc. 2012-468 Filed 1-17-12; 8:45 am]

BILLING CODE 4910-13-P